DEPARTMENT OF ENERGY

Federal Energy Regulatory Commission

[Project No.15237-000]

PacifiCorp; Notice of Preliminary Permit Application Accepted for Filing and Soliciting Comments, Motions To Intervene, and Competing Applications

On October 13, 2021, PacifiCorp filed an application for a preliminary permit, pursuant to section 4(f) of the Federal Power Act (FPA), proposing to study the feasibility of Barn Canyon Pumped Storage Project to be located about 4 miles North of Helper, Utah. The sole purpose of a preliminary permit, if issued, is to grant the permit holder priority to file a license application during the permit term. A preliminary permit does not authorize the permit holder to perform any land-disturbing activities or otherwise enter upon lands or waters owned by others without the owners' express permission.

The proposed project would consist of the following: (1) A new upper reservoir with a surface area of 42 acres and a total storage capacity of 986 acre-feet at a normal maximum operating elevation of 8,355 feet average mean sea level (msl); (2) a new lower reservoir with a surface area of 28 acres and a total storage capacity of 1,664 acre-feet at a normal maximum operating elevation of 6,240 feet msl; (3) a 12,672-foot-long penstock, with a hydraulic head of 2,035 feet, connecting the upper and lower reservoirs to the powerhouse; (4) a new underground powerhouse that would be sited along the western shore of the lower reservoir containing three Francis turbine-generator units with a total rated capacity of 300 megawatts; (5) a new 10.2-mile-long, 345-kilovolt (kV) transmission line connecting the powerhouse to PacifiCorp's existing Huntington-Spanish Fork substation constructed in 1979 for alternative 1; (6) a new 0.8-mile-long, 138-kV transmission line to interconnect the powerhouse to PacifiCorp's existing Carbon substation for alternative 2; and (7) appurtenant facilities. The estimated annual power generation at the Barn Canyon Pumped Storage would be 624 gigawatt-hours.

Applicant Contact: Mr. Tim Hemstreet, Managing Director, Renewable Energy Development PacifiCorp. 825 NE Multnomah, Suite 1800, Portland, OR 97232, Tim.hemstreet@pacificorp.com.

FERC Contact: Ousmane Sidibe; Phone: (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15237-000.

More information about this project, including a copy of the application, can be viewed or printed on the “eLibrary” link of Commission's website at https://www.ferc.gov/ferc-online/elibrary/overview. Enter the docket number (P-15237) in the docket number field to access the document. For assistance, contact FERC Online Support.

Dated: April 20, 2022.
Kimberly D. Bose,
Secretary.

[FR Doc. 2022-08842 Filed 4-25-22; 8:45 am]

BILLING CODE 6717-01-P